DEPARTMENT OF COMMERCE

International Trade Administration

[A-552-802, A-570-893]

Notice of Initiation of Administrative Reviews of the Antidumping Duty Orders on Frozen Warmwater Shrimp from the Socialist Republic of Vietnam and the People's Republic of China

AGENCY: Import Administration, International Trade Administration, Department of Commerce.

SUMMARY: The Department of Commerce (“Department”) received timely requests to conduct administrative reviews of the antidumping duty orders on certain frozen warmwater shrimp (“shrimp”) from the Socialist Republic of Vietnam (“Vietnam”) and the People's Republic of China (“PRC”). The anniversary month of these orders is February. In accordance with the Department's regulations, we are initiating these administrative reviews.

EFFECTIVE DATE: April 7, 2006.

FOR FURTHER INFORMATION CONTACT: Alex Villanueva (Vietnam) or Christopher Riker (PRC), AD/CVD Operations, Office 9, Import Administration, International Trade Administration, U.S. Department of Commerce, 14th Street and Constitution Avenue, NW., Washington, DC 20230, telephone: (202) 482-3208 or (202) 482-3441, respectively.

SUPPLEMENTARY INFORMATION:

Background

The Department received timely requests from Petitioners¹ and certain individual companies, in accordance with 19 CFR 351.213(b), during the anniversary month of February, for administrative reviews of the antidumping duty orders on shrimp from Vietnam and the PRC covering 164 companies for the PRC and 84 companies for Vietnam. Subsequently, Petitioners withdrew one request for review for the PRC. See Petitioners' letter dated March 1, 2006. On March 16, 2006, the Department issued a memorandum detailing Department officials' communications with Petitioners' counsel regarding concerns about the names and addresses of certain companies included in Petitioners' request for administrative reviews. See Memorandum to the File, from Irene Darzenta Tzafolias, Acting Director, AD/CVD Operations, Office 2, Re: Conversation with Petitioners' Counsel Concerning Petitioners' Requests for Administrative Reviews, dated March 16, 2006. On March 21, 2006, the Petitioners submitted a letter addressing the items outlined in the Department's memorandum of March 16, 2006. The Department is now initiating administrative reviews of the orders covering the 84 companies for Vietnam and the remaining 163 companies for the PRC.

¹ Ad Hoc Shrimp Trade Action Committee (“Petitioners”).

Initiation of Reviews

In accordance with section 751(a)(1) of the Tariff Act of 1930, as amended (“the Act”), we are initiating administrative reviews of the antidumping duty orders on shrimp from Vietnam and the PRC. We intend to issue the final results of these reviews no later than February 28, 2007.

Antidumping Duty Proceeding | Period To Be Reviewed
Vietnam ²: | 07/16/2004-01/31/2006
AAAS Logistics
Agrimex
Amanda Foods (Vietnam) Ltd.*
American Container Line
Angiang Agricultural Technology Service Company
An Giang Fisheries Import and Export Joint Stock Company (Agifish)
Aquatic Products Trading Company*
Bac Lieu Fisheries Company Limited*
Bentre Frozen Aquaproduct Exports
Bentre Aquaproduct Imports & Exports
Cai Doi Vam Seafood Import-Export Company (Cadovimex)*
Camau Frozen Seafood Processing Import Export Corporation (Camimex)*
Cam Ranh Seafoods Processing Enterprise Company (Camranh Seafoods)*
Cantho Animal Fisheries Product Processing Export Enterprise (Cafatex)*
Can Tho Agricultural Products
Can Tho Agricultural and Animal Products Import Export Company (Cataco)*
Can Tho Seafood Exports
Cautre Enterprises
Coastal Fishery Development
Coastal Fisheries Development Corporation (Cofidec)*
C P Vietnam Livestock Co. Ltd.*
C P Livestock
Cuu Long Seaproducts Limited (Cuulong Seapro)*
Danang Seaproducts Import Export Corporation (Seaprodex Danang)*
Dong Phuc Huynh
Frozen Seafoods Fty
General Imports & Exports
Grobest & I Mei Industry Vietnam
Hacota
Hai Viet
Hai Thuan Export Seaproducts Processing Co. Ltd.
Hanoi Sea Products Import Export Corporation*
Hoa Nam Marine Agricultural
Hatrang Frozen Seaproduct Fty
Investment Commerce Fisheries Corporation (Incomfish)*
Kien Giang Sea Products Import - Export Company (Kisimex)*
Kim Anh Co. Ltd.
Khanh Loi Trading
Lamson Import-Export Foodstuffs Corporation
Minh Hai Export Frozen Seafood Processing Joint Stock Company
Minh Hai Export Frozen Seafoods Processing Joint Stock Company (Minh Hai Jostoco)*
Minh Hai Joint Stock Seafoods Processing Company (Seaprodex Minh Hai)*
Minh Hai Sea Products Import Export Company (Seaprimiex Co)*
Minh Phat Seafood³*
Minh Phu Seafood Corporation⁴*
Minh Qui Seafood⁵*
Ngoc Sinh Seafoods*
Nha Trang Company Limited
Nha Trang Fisheries Joint Stock Company (Nhtrang Fisco)*
Nha Trang Fisheries Co. Ltd.
Nha Trang Seaproduct Company (Nhatrang Seafoods)*
Pataya Food Industry (Vietnam) Ltd.*
Phu Cuong Seafood Processing and Import Export Company Ltd.*
Phuong Nam Co. Ltd.*
Phuong Nam Seafood Co. Ltd.
Saigon Orchide
Sao Ta Foods Joint Stock Compay (Fimex VN)*
Seafood Processing Imports Exports Vietnam
Seaprodex
Sea Product
Sea Products Imports & Exports
Song Huong ASC Import-Export Company Ltd.*
Song Huong ASC Joint Stock Company
Soc Trang Aquatic Products and General Import Export Company (Stampimex)*
Soc Trang Aquatic Products and General Import Export Company (Stampimex)⁶*
Sonacos
Special Aquatic Products Joing Stock Company (Seaspimex)⁷
Tacvan Frozen Seafoods Processing Export Company
Thami Shipping & AirfreightThanh Long
Thanh Long
Thien Ma Seafood
Tho Quang Seafood Processing & Export Company
Thuan Phuoc Seafoods and Trading Corporation*
Tourism Material and Equipment Company (Matourimex Hochiminh City Branch)
Truc An Company
UTXI Aquatic Products Processing Company*
Viet Foods Co. Ltd.*
Viet Hai Seafoods Company Ltd. (Vietnam Fish One)*
Vietnam Northern Viking Technologie Co. Ltd.
Viet Nhan Company*
Vilfood Co
Vinh Loi Import Export Company (Vimexco)*
Vita
V N Seafoods
PRC ⁸: | 07/16/2004-01/31/2006
Allied Pacific Food⁹*
Allied Pacific (H.K.) Co. Ltd.¹⁰*
Allied Pacific Aquatic Products (Zhongshan) Co., Ltd.¹¹*
Allied Pacific Aquatic Products (Zhangjiang) Co., Ltd.¹²*
Allied Pacific Food (Dalian) Co. Ltd.¹³*
Ammon International
Asian Seafoods (Zhanjiang) Co., Ltd *
Aquatic Foodstuffs FTY
Baofa Aquatic Products Co., Ltd
Beihai Zhengwu Industry Co., Ltd*
Chaoyang Qiaofeng Group Co., Ltd. (Shantou Qiaofeng (Group) Co., Ltd.) (Shantou/ Chaoyang Qiaofeng)*
Chengai Nichi Lan Foods Co., Ltd.*
Citic Heavy Machinery
Dafu Foods Industry
Dalian Ftz Sea-Rich International Trading Co., Ltd.*
Dalian Shanhai Seafood
Dalian Shan Li Food
Dhin Foong Trdg
Dongri Aquatic Products Freezing Plants*
Dongri Aquatic Products Freezing Plants Shengping
Dongshan Xinhefa Food
Evergreen Aquatic Product Science and Technology
Formosa Plastics
Fuchang Aquatic Products
Fuchang Trdg
Fuqing City Dongyi Trdg
Fuqing Chaohui Aquatic Food Co. Ltd.
Fuqing Chaohui Aquatic Food Trdg.
Fuqing Dongwei Aquatic Products Industry Co., Ltd.*
Fuqing Dongyi Trdg
Fuqing Fuchang Trdg
Fuqing Longwei Aquatic Foodstuff
Fuqing Xuhu Aquatic Food Trdg
Fuqing Yihua Aquatic Products Co., Ltd.¹⁴*
Gallant Ocean International
Gallant Ocean (Liangjiang) Co., Ltd.*
Gallant Seafoods
Gaomi Shenyuan Foodstuff
Go Harvest Aquatic Products
Guangxi Lian Chi Home Appliance Co
Guangzhou Lingshan Aquatic Products
Guolian Aquatic Products
Hai Li Aquatic Co., Ltd. Zhao An, Fujian
Hainan Fruit Vegetable Food Allocation Co., Ltd.*
Hainan Golden Spring Foods Co., Ltd/ Hainan Brich Aquatic Products Co., Ltd.*
Hainan Jiadexin Aquatic Products Co., Ltd
Hainan Jiadexin Foodstuff
I T Logistics
Jinfu Trading Co., Ltd.*
Jinhang Aquatic Industry
Juxian Zhonglu Foodstuffs
Kaifeng Ocean Sky Industry Co., Ltd.*
King Royal Investments, Ltd.¹⁵*
Laiyang Hengrun Foodstuff
Laiyang Luhua Foodstuffs
Leizhou Zhulian Frozen Food Co., Ltd.*
Logistics Harbour Dock
Longsheng Aquatic Product
Longwei Aquatic Foodstuff
Luk Ka Paper Industry
Marnex
Master International Logistics
Meizhou Aquatic Products
Meizhou Aquatic
Meizhou Aquatic Products Quick-Frozen Industry Co., Ltd.
Nichi Lan Food Co. Ltd. Chen Hai
North Supreme Seafood (Zhejiang) Co., Ltd.
Ocean Freezing Industry & Trade General
Perfection Logistics Service
Phoenix Seafood
Pingyang Xinye Aquatic Products Co., Ltd.*
Polypro Plastics
Power Dekor Group Co., Ltd.
P & T International Trading
Putuo Fahua Aquatic Products Co., Ltd.
Qingdao Dayang Jian Foodstuffs
Qinhuangdao Jiangxin Aquatic Food
Red Garden Food
Red Garden Foodstuff
Round The Ocean Logistics
Rongcheng Tongda Aquatic Food
Ruian Huasheng Aquatic Products
Savvy Seafood Inc.*
Second Aquatic Foodstuffs Fty
Sealord North America
Seatrade International
Second Aquatic Food
Shandong Chengshun Farm Produce Trd
Shandong Sanfod Group
Shanghai Linghai Fisheries Economic and Trading Co.
Shantou Longsheng Aquatic Product
Shanghai Taoen International Trading Co., Ltd.*
Shantou City Qiaofeng Group
Shantou Freezing Aquatic Product Food Stuffs Co.*
Shantou Jinhang Aquatic Industry Co., Ltd.*
Shantou Jinyuan District Mingfeng Quick-Frozen Factory*
Shantou Junyuan Pingyuan Foreign Trading
Shantou Long Feng Foodstuffs Co., Ltd. (Shantou Longfeng Foodstuffs Co., Ltd.)*
Shantou Ocean Freezing Industry and Trade General Corporation
Shantou Red Garden Foodstuff¹⁶*
Shantou Red Garden Food Processing Co¹⁷*
Shantou Ruiyuan Industry Co., Ltd.*
Shantou Sez Xuhoa Fastness Freeze Aquatic Factory Co.
Shantou Shengping Oceanstar Business Co., Ltd.*
Shantou Wanya Food Factory Co., Ltd.*
Shantou Yelin Frozen Seafood Co. Ltd.¹⁸*
Shantou Yuexing Enterprise Company*
Silvertie Holding
South Bay Intl
Spectrum Plastics
Taizhou Lingyang Aquatic Products Co., Ltd
Taizhou Zhonghuan Industrial Co., Ltd.
The Second Aquatic Food
Tianhe Hardware & Rigging
Weifang Taihua Food
Weifang Yongqiang Food Ind
Wenling Xingdi Aquatic Products
Xiamen Sungiven Imports & Exports
Xuwen Hailang Breeding Co., Ltd.*
Yangjiang City Yelin Hoitat Quick Frozen Seafood Co., Ltd.¹⁹*
Yantai Guangyuan Foods Co
Yantai Wei-Cheng Food Co., Ltd.*
Yantai Xinlai Trade
Yantai Xuehai Foodstuffs
Yelin Enterprise Co., Ltd. Hong Kong²⁰*
Yelin Frozen Seafood Co.²¹*
Zhangjiang Bobogo Ocean Co., Ltd.*
Zhangjiang Newpro Food Co., Ltd.*
Zhanjiang Allied Pacific Aquaculture Co., Ltd.²²*
Zhanjiang CNF Sea Products Engineering Ltd
Zhanjiang Evergreen Aquatic Product Science and Technology Co., Ltd.*
Zhanjiang Fuchang Aquatic Products
Zhanjiang Go-Harvest Aquatic Products Co., Ltd.*
Zhanjiang Jebshin Seafood Limited
Zhanjiang Regal Integrated Marine Resources Co. Ltd.
Zhanjiang Runhai Foods Co., Ltd.*
Zhanjiang Shunda Aquatic Products
Zhanjiang Universal Seafood Corp*
Zhejiang Cereals, Oils & Foodstuff Import & Export Co., Ltd.*
Zhejiang Daishan Baofa Aquatic Products Co., Ltd.
Zhejiang Evernew Seafood Co., Ltd.
Zhejiang Taizhou Lingyang Aquatic Products Co.
Zhejiang Xintianjiu Sea Products Co., Ltd.
Zhejiang Xingyang Import & Export
Zhejiang Zhenlong Foodstuffs Co., Ltd.
Zhejiang Zhongda
Zhenjaing Evergreen Aquatic Products Science & Technology Co., Ltd.
Zhoushan Cereals, Oils, and Foodstuffs Import and Export Co., Ltd.*
Zhoushan Diciyuan Aquatic Products*
Zhoushan Guangzhou Aquatic Products Co., Ltd
Zhoushan Guotai Aquatic Products Co., Ltd.
Zhoushan Haichang Food Co.
Zhoushan Huading Seafood Co., Ltd.*
Zhoushan Industrial Co., Ltd.
Zhoushan International Trade Co., Ltd
Zhoushan Lizhou Fishery Co., Ltd.*
Zhoushan Jingzhou Aquatic Products Co., Ltd.
Zhoushan Putuo Huafa Sea Products Co., Ltd.
Zhoushan Provisions & Oil Food Export and Import Co., Ltd.
Zhoushan Xifeng Aquatic Co., Ltd.*
Zhoushan Xi'an Aquatic Products Co., Ltd.
Zhoushan Zhenyang Developing Co., Ltd.
ZJ CNF Sea Products Engineering Ltd.
² If one of the below named companies does not qualify for a separate rate, all other exporters of shrimp from Vietnam that have not qualified for a separate rate are deemed to be covered by this review as part of the single Vietnam entity of which the named exporter is a part.
³ In the less than fair value investigation, the Department treated Minh Phat Seafood, Minh Phu Seafood Corporation and Minh Qui Seafood as one combined entity.
⁴ See Footnote 3.
⁵ See Footnote 3.
⁶ Petitioners requested that the Department conduct an administrative review of this company, but provided two different addresses for the same company. Therefore, we have listed them twice as it is possible that they are two distinct companies. If, however, they are separate companies, then one of the two did not in fact receive a separate rate in the investigation.
⁷ The Department believes the correct company name is Special Aquatic Products Joint Stock Company (Seaspimex), but we are using the name directly from Petitioners' February 28, 2006, request for reviews.
⁸ If one of the above named companies does not qualify for a separate rate, all other exporters of shrimp from the PRC that have not qualified for a separate rate are deemed to be covered by this review as part of the single PRC entity of which the named exporter is a part.
⁹ In the original investigation, the Department found that the following companies comprised a single entity, the Allied Pacific Group: Allied Pacific Food (Dalian) Co., Ltd., Allied Pacific (HK) Co., Ltd., King Royal Investments, Ltd., Allied Pacific Aquatic Products (Zhanjiang) Co., Ltd., and Allied Pacific Aquatic Products (Zhongshan) Co., Ltd. On February 28, 2006 Allied Pacific Food (Dalian) Co., Ltd., Allied Pacific Aquatic Products (Zhanjiang) Co., Ltd., Zhanjiang Allied Pacific Aquaculture Co., Ltd., Allied Pacific (HK) Co., Ltd., and King Royal Investments, Ltd., submitted a request for review, referring to themselves collectively as Allied Pacific Group.
¹⁰ See footnote 9.
¹¹ See footnote 9.
¹² See footnote 9.
¹³ See footnote 9.
¹⁴ In the original investigation, the Department found that the following companies comprised a single entity: Yelin Enterprise Co. Hong Kong, Yangjiang City Yelin Hoitat Quick Frozen Seafood Co., Ltd., Fuqing Yihua Aquatic Products Co., Ltd., and Yelin Frozen Seafood Co. On February 28, 2006, Yelin Enterprise Co. Hong Kong, Shantou Yelin Frozen Seafood Co., Ltd., Yangjiang City Yelin Hoitat Quick Frozen Seafood Co., Ltd., and Fuqing Yihua Aquatic Products Co., Ltd. submitted a request for review referring to themselves collectively as Yelin.
¹⁵ See footnote 9.
¹⁶ This company has the same address listed as Red Garden Foodstuff above. However, if they are separate companies, then one of the two did not in fact receive a separate rate in the investigation.
¹⁷ This company has the same address listed as Red Garden Food above. However, if they are separate companies, then one of the two did not in fact receive a separate rate in the investigation.
¹⁸ See footnote 14.
¹⁹ See footnote 14.
²⁰ See footnote 14.
²¹ See footnote 14.
²² The Department is placing an asterisk by this company's name because it was requested as part of the Allied Pacific Group. See Footnote 9.
* These companies received a separate rate in the prior segment (the less-than-fair-value investigation) of this proceeding.

Selection of Respondents

Section 777A(c)(1) of the Act directs the Department to calculate individual dumping margins for each known exporter and producer of the subject merchandise. Where it is not practicable to examine all known producers/exporters of subject merchandise because of the large number of such companies, section 777A(c)(2) of the Act permits the Department to limit its examination to either (1) a sample of exporters, producers, or types of products that is statistically valid based on the information available at the time of selection; or (2) exporters and producers accounting for the largest volume of subject merchandise from the exporting country that can be reasonably examined.

Due to the large number of firms requested for these administrative reviews and the resulting administrative burden to review each company for which a request has been made, the Department is considering exercising its authority to limit the number of respondents selected for review. See Section 777A(c)(2) of the Act.

The Department has not yet determined the appropriate methodology to employ in limiting respondent selection. As discussed above, the Department may either use a statistically valid sample or examine the largest exporters and producers by volume. Should the Department determine to sample the exporters, it will employ the following procedures: the Department will (1) issue a letter to the interested parties detailing the proposed sampling methodology; (2) after analyzing the parties' comments, finalize its sampling methodology; (3) notify the parties and invite them to send a representative to witness the sampling selection; (4) conduct the sampling exercise; (5) notify all interested parties of the selection outcome of the sampling exercise (selected respondents will be issued the full antidumping duty questionnaire); and (6) record the results in a memorandum to the file.

Withdrawal of Request For Administrative Review

19 CFR 351.213(d)(1) provides that the Secretary will rescind an administrative review if the party that requested the review withdraws the request within 90 days of the date of publication of the notice in the Federal Register. Although the regulation provides that the Secretary may extend this deadline, it is unlikely that the Department will be able to grant any such extensions for these particular administrative reviews, due to the time constraints imposed by our statutory deadlines.²³

²³ Should the Department use sampling, the need to preserve the statistical validity of the sampling methodology will further limit the Department's ability to grant such extensions.

Separate Rates

In proceedings involving non-market economy (“NME”) countries, the Department begins with a rebuttable presumption that all companies within the country are subject to government control and, thus, should be assigned a single antidumping duty deposit rate. It is the Department's policy to assign all exporters of merchandise subject to investigation in an NME country this single rate unless an exporter can demonstrate that it is sufficiently independent so as to be entitled to a separate rate.

To establish whether a firm is sufficiently independent from government control of its export activities to be entitled to a separate rate, the Department's analysis mirrors that established in the Final Determination of Sales at Less Than Fair Value: Sparklers from the People's Republic of China, 56 FR 20588 (May 6, 1991) (“Sparklers”), as amplified by Final Determination of Sales at Less Than Fair Value: Silicon Carbide from the People's Republic of China, 59 FR 22585 (May 2, 1994) (“Silicon Carbide”). In accordance with the separate rate criteria, the Department assigns separate rates to companies in NME cases only if respondents can demonstrate the absence of both de jure and de facto government control over export activities.

The Department recently modified the process by which exporters and producers may obtain separate rate status in NME investigations. See Policy Bulletin 05.1 Separate Rates Practice and Application of Combination Rates in Antidumping Investigations Involving Non-Market Economy Countries, (April 5, 2005), available on the Department's website at http://ia.ita.doc.gov/policy/bull05-1.pdf. The process now requires the submission of a separate rate status application.

Due to the large number of companies subject to administrative reviews in both the Vietnam and the PRC proceedings, the Department is requiring all companies listed above that wish to qualify for separate rate status in these administrative reviews to complete, as appropriate, either a separate rate status application or certification, as described below.

If the Department determines to select the mandatory respondents through sampling in these administrative reviews, the Department will require all potential respondents to demonstrate their eligibility for a separate rate. The Department will then make the separate rate determinations for each company and allow only those respondents with separate rate status to be included in the sampling pool should the Department decide to sample. However, for any respondent that is determined later in this segment to have provided inaccurate information regarding its separate rate status, the Department may apply facts otherwise available with an adverse inference if it determines that such respondent failed to cooperate by not acting to the best of its ability.

If the Department determines to select the mandatory respondents by selecting the largest exporters/producers accounting for the largest volume of subject merchandise exported to the United States, the Department will also require all potential respondents to demonstrate their eligibility for a separate rate. For those respondents not representing the largest volume of subject merchandise exported to the United States, the Department will make the separate rate determinations for each company. Only those respondents with separate rate status will be included in the group receiving the weighted-average margin calculated from the selected respondents. However, for any respondent that is determined later in this segment to have provided inaccurate information regarding its separate rate status, the Department may apply facts otherwise available with an adverse inference if it determines that such respondent failed to cooperate by not acting to the best of its ability.

For these administrative reviews, in order to demonstrate separate rate eligibility, the Department requires companies for which a review was requested that were assigned a separate rate in the previous segment of this proceeding to certify that they continue to meet the criteria for obtaining a separate rate. The certification form will be available on the Department's website at http://ia.ita.doc.gov/ on the date of publication of this Federal Register notice. In responding to the certification, please follow the “Instructions for Filing the Certification” in the Separate Rate Certification. Certifications for both Vietnam and China are due to the Department by close of business on April 28, 2006. The deadline and requirement for submitting a certification applies equally to NME-owned companies, wholly foreign-owned companies, and foreign resellers who purchase the subject merchandise and export it to the United States.

The Department requires, to demonstrate eligibility for a separate rate, a separate rates status application for companies that have not previously been assigned a separate rate. The separate rate status application will be available on the Department's Web site at http://ia.ita.doc.gov/ on the date of publication of this Federal Register notice. In responding to the separate rate status application, please refer to instructions contained within the application. Separate rate status applications are due to the Department by close of business on May 19, 2006. The deadline and requirement for submitting a separate rate status application applies equally to NME-owned companies, wholly-foreign owned companies, and foreign resellers that purchase the subject merchandise and export it to the United States. Further, due to the time constraints imposed by our statutory deadlines, the Department may be unable to grant any extensions for the submission of separate rate certifications or separate rate status applications.

Quantity and Value (“Q&V”) Questionnaire

In advance of issuing of the antidumping questionnaire, we will also be requiring all parties for whom a review is requested to respond to a Q&V questionnaire, which will request information on the respective quantity and U.S. dollar sales value of all exports of shrimp to the United States during the period July 16, 2004, through January 31, 2006. The Q&V questionnaire will be available on the Department's website at http://ia.ita.doc.gov/ on April 3, 2006. The responses to the Q&V questionnaire are due to the Department by close of business on April 28, 2006. Due to the time constraints imposed by our statutory and regulatory deadlines, the Department may be unable to grant any extensions for the submission of the Q&V questionnaire responses. In responding to the Q&V questionnaire, please refer to the instructions contained in the Q&V questionnaire.

Notice

This notice constitutes public notification to all firms requested for review and seeking separate rate status in these administrative reviews that they must submit a separate rate status application or certification (as appropriate) as described above, and a complete response to the Q&V questionnaire, within the time limits established in this notice of initiation in order to receive consideration for separate rate status. For parties that fail to timely respond to the requisite separate rate status application or certification, or to the Q&V questionnaire, the Department may resort to the use of facts otherwise available, and may employ an adverse inference. The Department notes that if any of the due dates for separate rate filings and/or Q&V responses fall on a weekend, holiday, or any other day the Department is closed, the due date will be the next business day. See Notice of Clarification: Application of “Next Business Day” Rule for Administrative Determination Deadlines Pursuant to the Tariff Act of 1930, As Amended, 70 FR 24533 (May 10, 2005). All information submitted by respondents in this administrative review is subject to verification. As discussed above, due to the large number of parties in these proceedings, and the Department's need to complete its proceedings within the statutory deadlines, the Department will be limited in its ability to extend deadlines on the above submissions. As noted above, the separate rate certification, the separate rate status application, and the Q&V questionnaire will be available on the Department's Web site at http://ia.ita.doc.gov/ on April 3, 2006.

Interested parties must submit applications for disclosure under administrative protective orders in accordance with 19 CFR 351.305. Instructions for filing such applications may be found on the Department's website at http://ia.ita.doc.gov/.

This initiation and notice are in accordance with section 751(a)(1) of the Act and 19 CFR 351.221(c)(1)(i).

Dated: March 31, 2006.
James C. Doyle,
Director, AD/CVD Operations, Office 9,Import Administration.

[FR Doc. E6-5114 Filed 4-6-06; 8:45 am]

BILLING CODE 3510-DS-S